DEPARTMENT OF EDUCATION

[Docket No.: ED-2023-SCC-0074]

Agency Information Collection Activities; Comment Request; HEERF No Cost Extension (NCE) Request Form

AGENCY: Office of Postsecondary Education (OPE), Department of Education (ED).

ACTION: Notice.

SUMMARY: In accordance with the Paperwork Reduction Act of 1995, ED is requesting the Office of Management and Budget (OMB) to conduct an emergency review of a new information collection.

DATES: The Department requested emergency processing from OMB for this information collection request on ED-2023-SCC-0074 by May 3, 2023. As a result, the Department is providing the public with the opportunity to comment under the full comment period. Interested persons are invited to submit comments on or before June 30, 2023.

ADDRESSES: To access and review all the documents related to the information collection listed in this notice, please use http://www.regulations.gov by searching the Docket ID number ED-2023-SCC-0074. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 6W203, Washington, DC 20202-8240.

FOR FURTHER INFORMATION CONTACT: For specific questions related to collection activities, please contact Karen Epps, 202-453-6337.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: HEERF No Cost Extension (NCE) Request Form.

OMB Control Number: 1840-NEW.

Type of Review: A new ICR.

Respondents/Affected Public: State, Local, and Tribal Governments; Private Sector.

Total Estimated Number of Annual Responses: 720.

Total Estimated Number of Annual Burden Hours: 360.

Abstract: The Higher Education Emergency Relief Fund (HEERF) authorizes the Secretary of Education to allocate formula grant funds to participating institutions of higher education (IHEs) to address impacts of COVID-19. To date, the Department has made over 18,000 awards to over 5,100 IHEs totaling $76.3 billion. In both volume of grants and amount of funding, HEERF is one of the largest grant programs in agency history. On June 30, 2023, the project period for most HEERF grants will end and any remaining unliquidated grant funds will be returned to Treasury. Pursuant to 2 CFR 200.308(e)(2) and 34 CFR 75.261(a), grantees have the option to receive up to a twelve-month No-Cost Extension (NCE) of their grant project periods. The Department is requesting emergency approval of a new information collection to allow for HEERF grantees to request an extension beyond June 30, 2023 and ensure that grantees have a thought-out plan for using their remaining HEERF grant funds to address the lingering effects and impacts related to COVID-19. In addition, the Department is requesting emergency clearance and OMB approval by May 3, 2023 in order to streamline the review and approval process as well as ensure that the reasons for requesting an extension of the HEERF project period beyond June 30, 2023 meet the applicable legal requirements. As such, the Department has created a data collection form for HEERF grantees to provide the information required to request NCEs for up to an additional twelve months to spend their remaining HEERF grant balances. The form requests information that is required under 2 CFR 200.308(e)(2) and 34 CFR 75.261(a) to grant NCEs. The Department has attempted to reduce burden on grantees by requesting, prospectively, much of the same information that grantees report on in their HEERF annual performance reports. Providing a streamlined process for NCE requests will speed the process of reviewing and approving NCE requests and help ensure grantees are able to spend down their funds in a reasonable timeframe while focusing on the pressing needs of their students and institutions.

Dated: April 26, 2023.
Kun Mullan,
PRA Coordinator, Strategic Collections and Clearance, Governance and Strategy Division, Office of Chief Data Officer, Office of Planning, Evaluation and Policy Development.

[FR Doc. 2023-09185 Filed 4-28-23; 8:45 am]

BILLING CODE 4000-01-P